DEPARTMENT OF HOMELAND SECURITY

Federal Emergency Management Agency

[Internal Agency Docket No. FEMA-1829-DR; Docket ID FEMA-2008-0018]

North Dakota; Amendment No. 3 to Notice of a Major Disaster Declaration

AGENCY: Federal Emergency Management Agency, DHS.

ACTION: Notice.

SUMMARY: This notice amends the notice of a major disaster declaration for the State of North Dakota (FEMA-1829-DR), dated March 24, 2009, and related determinations.

DATES: Effective Date: April 23, 2009.

FOR FURTHER INFORMATION CONTACT: Peggy Miller, Disaster Assistance Directorate, Federal Emergency Management Agency, 500 C Street, SW., Washington, DC 20472, (202) 646-3886.

SUPPLEMENTARY INFORMATION: The notice of a major disaster declaration for the State of North Dakota is hereby amended to include Hazard Mitigation for the following areas among those areas determined to have been adversely affected by the event declared a major disaster by the President in his declaration of March 24, 2009.

McHenry, Pierce, and Ward Counties for Individual Assistance.

Grant, Oliver, Stark, and Walsh Counties and the Spirit Lake and Standing Rock Indian Reservations for Individual Assistance (already designated for emergency protective measures [Category B], including direct Federal assistance, under the Public Assistance program).

Bottineau, Bowman, Eddy, McHenry, Mountrail, Pierce, Ward, and Wells Counties and the Sisseton-Wahpeton Oyate of the Lake Traverse Reservation for Public Assistance.

Griggs, Steele, Towner, and Traill Counties for Public Assistance (already designated for Individual Assistance).

Adams, Barnes, Benson, Burleigh, Cass, Cavalier, Dickey, Dunn, Emmons, Foster, Grand Forks, Grant, Hettinger, Kidder, LaMoure, Logan, McIntosh, McKenzie, McLean, Mercer, Morton, Nelson, Oliver, Pembina, Ramsey, Ransom, Richland, Sargent, Sioux, Stutsman, and Walsh Counties and the Spirit Lake and Standing Rock Indian Reservations for Public Assistance [Categories A and C-G] (already designated for emergency protective measures [Category B], including direct Federal assistance, under the Public Assistance program).

All counties in the State of North Dakota are eligible to apply for assistance under the Hazard Mitigation Grant Program.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.)

Nancy Ward,
Acting Administrator, Federal Emergency Management Agency.

[FR Doc. E9-10436 Filed 5-5-09; 8:45 am]

BILLING CODE 9111-23-P